DEPARTMENT OF HEALTH AND HUMAN SERVICES

Administration for Children and Families

Request for Public Comment on the Improvement of the Adoption and Foster Care Analysis and Reporting System (AFCARS)

AGENCY: Administration on Children, Youth and Families (ACYF), ACF, DHHS.

ACTION: Correction to notice of request for public comment.

SUMMARY: On April 28, 2003, ACF published a notice of request for comments on the Adoption and Foster Care Analysis and Reporting System (AFCARS). There is an error in the mailbox address set up to receive e-mail written comments on AFCARS. The correct address is AFCARS_Project@acf.hhs.gov (there is an underscore between “AFCARS” and “Project”). Likewise, the section regarding further information should reflect the corrected e-mail address: AFCARS_Project@acf.hhs.gov.

FOR FURTHER INFORMATION: Questions regarding this correction may be submitted to and will be answered by e-mail at the AFCARS_Project@acf.hhs.gov or via the Children's Bureau address, 330 “C” St., SW., Washington, DC 20447, Attention: Penelope L. Maza.

Dated: May 16, 2003.
Frank Fuentes,
Deputy Commissioner, Administration on Children, Youth and Families.

[FR Doc. 03-12797 Filed 5-21-03; 8:45 am]

BILLING CODE 4184-01-M